DEPARTMENT OF LABOR

Guidance Documents

AGENCY: Office of the Assistant Secretary for Policy (OASP), Labor.

ACTION: Notice of availability.

SUMMARY: The Department of Labor (the Department) is publishing this notice pursuant to an Executive Order to announce and describe the public-facing guidance website that will contain the Department's Guidance Documents, as described under the Executive Order.

ADDRESSES: The Department's guidance website is available on its website at https://www.dol.gov/guidance.

FOR FURTHER INFORMATION CONTACT: Erin FitzGerald, U.S. Department of Labor, Office of the Assistant Secretary for Policy, 200 Constitution Avenue NW, Room S-2312, Washington, DC 20210, 202-693-5959 [This is not a toll-free number].

SUPPLEMENTARY INFORMATION: On October 9, 2019, President Trump issued Executive Order 13891, “Promoting the Rule of Law Through Improved Agency Guidance Documents,” directing federal agencies to establish a single, searchable, website that contains all current guidance documents. The Department's guidance website is available at https://www.dol.gov/guidance.

As part of this process, the Department is undertaking a detailed and comprehensive review of guidance documents issued by Department agencies to determine whether such guidance aligns with the law and Administration policy and otherwise serves an appropriate and useful purpose. Guidance which is outdated, superseded, invalid, unhelpful, confusing, redundant, outside an agency's appropriate role, or contrary to law or policy is being rescinded or modified. This process is ongoing and the Department's guidance website collects decisions to retain guidance to date. The website is intended to provide transparency to the regulated community by creating a “one-stop shop” for locating guidance documents, which will also continue to be available on agency websites in their usual locations. The E.O. gives agencies until June 27, 2020, to add to the website any guidance missed during their initial review. Any documents still under review after February 28, 2020 will be added to the website when those decisions have been finalized.

Guidance documents that are not currently searchable through the search tool will continue to be available on the individual DOL agency websites. DOL will continue to refine its website as needed to enhance user accessibility and usability.

Agencies will continue to publish guidance documents on their own websites and all new guidance documents will be searchable from http://www.dol.gov/guidance. DOL welcomes input from the public regarding guidance that should be retained, rescinded, or modified. Comments should be submitted to TalkAboutGuidance@dol.gov.

Jonathan Wolfson,
Regulatory Reform Officer, Deputy Assistance Secretary, Office of the Assistant Secretary for Policy.

[FR Doc. 2020-04469 Filed 3-4-20; 8:45 am]

BILLING CODE 4510-HX-P